DEPARTMENT OF COMMERCE

National Oceanic and Atmospheric Administration

50 CFR Part 660

[I.D. 022101A]

Western Pacific Fishery Management Council; Public Meetings and Hearing

AGENCY: National Marine Fisheries Service (NMFS), National Oceanic and Atmospheric Administration (NOAA), Commerce.

ACTION: Notice of public meetings/public hearing.

SUMMARY: The Western Pacific Fishery Management Council (Council) will hold a joint meeting of its Coral Reef Ecosystem Plan Team (CREPT) and Ecosystem and Habitat Advisory Panel (EHAP) on March 8, 2001, in Honolulu, HI, and hold its 109th meeting of the full Council on March 13, 2001, in Honolulu, HI.

At the full Council meeting, a public hearing will be held prior to the Council taking final action on its Coral Reef Ecosystem Fishery Management Plan/Draft Environmental Impact Statement (CREFMP/DEIS).

DATES: The joint meeting of the CREPT and EHAP (non-Hawaii members by telephone conference call) will be held on March 8, 2001, from 12 noon to 5 p.m. The full Council meeting (non-Hawaii members by telephone conference call) will be held on March 13, 2001, from 12 noon to 5 p.m. See SUPPLEMENTARY INFORMATION for specific telephone link locations.

ADDRESSES: The joint CREPT/EHAP meeting, Council meeting, and public hearing will be held at the Council Office Conference Room, Western Pacific Fishery Management Council, 1164 Bishop St., Suite 1400, Honolulu, HI, 96813; telephone: 808-522-8220. Copies of the CREFMP/DEIS are available from the Western Pacific Fishery Management Council. The following locations have been identified for telephone conference call links to the 109th Council meeting in Honolulu, HI on March 13, 2001: American Samoa, Commonwealth of the Northern Mariana Islands (CNMI), and Guam. For specific telephone link locations see SUPPLEMENTARY INFORMATION.

FOR FURTHER INFORMATION CONTACT: Kitty M. Simonds, Executive Director; telephone: 808-522-8220.

SUPPLEMENTARY INFORMATION: On March 8, 2001, the Plan Team/Advisory Panel (CREPT/EHAP) will consider public comments during the public comment period on the CREFMP/DEIS and make recommendations to the Council. On March 13, 2001, the Council will consider comments and recommendations from the CREPT/EHAP on the CREFMP/DEIS and take final action on the CREFMP. Dates, Times, and Locations for telephone conference call links to the Council meeting and public hearing are as follows:

1. Honolulu, HI: March 13, 2001, local meeting time, 12 noon to 5 p.m., public hearing time, 3 p.m., Western Pacific Fishery Management Council, Council Office Conference Room, 1164 Bishop Street, Honolulu, HI 96813; contact Kitty Simonds (see ADDRESSES) for further information.

2. Fagatogo, AS: March 13, 2001, local meeting time, 11 a.m. to 4 p.m., public hearing time, 2 p.m., Department of Marine and Wildlife Resources (DMWR) conference room, Fagatogo, AS. Local phone contact c/o DMWR at 684-633-4456.

3. Saipan, CNMI: March 14, 2001, local meeting time, 8 a.m. to 1 p.m., public hearing time, 11 a.m., Division of Fish and Wildlife, P.O. Box 10007, Saipan, MP 96950. Local phone contact 670-664-6000.

4. Tamuning, Guam: March 14, 2001, local meeting time, 8 a.m. to 1 p.m., public hearing time, 11 a.m., Guam Economic Development Authority, Suite 511, ITC Building, 590 S. Marine Drive, Tamuning, Guam. Local phone contact 671-475-0321.

CREPT/EHAP Meeting

The CREPT/EHAP will meet on March 8, 2001, from 12 noon to 5 p.m.

Background

The DEIS was prepared to examine the impacts of implementing the proposed CREFMP. The DEIS also addresses potential problems due to human interactions with coral reefs in the Western Pacific exclusive economic zone (EEZ). Although local regulations control many of the impacts of harvesting nearshore coral reef resources in settled areas, exploitation of coral reef ecosystem remains relatively uncontrolled in Federal waters of the EEZ. Although these areas have been minimally exploited to date, there has been interest expressed for fisheries to expand in these areas. In addition, the DEIS was prepared to provide for better understanding of impacts due to natural environmental changes, other FMP managed fisheries, and non-fishing related impacts such as dredging. To address these problems, four alternatives were examined: (1) No action or status quo; (2) minimal additional protection for coral reef resources;(3) substantial additional protection to coral reef resources (preferred alternative); and (4) maximum additional protection for coral reef resources. The environmental effects of each of the alternatives, management measures, components, and options have been analyzed in the DEIS. In June 2000, the Council adopted a preferred alternative and management options. Management measures proposed in the FMP represent a combination of choices made by the Council based on a comparison of alternatives. Alternatives were a product of numerous public meetings and meetings of the Council’s various advisory bodies. The proposed management measures include: (a) Designating marine protected areas (MPAs), including no-take marine reserves and areas zoned for specific fishing activities allowed only with a special permit; (b) establishing fishing permit and reporting requirements for fishing for coral reef resources in the EEZ; (c) specifying the use of selective, non-destructive gears and methods for harvesting management-unit species; and (d) establishing a framework process to allow for future regulatory adjustments to the coral reef ecosystem management program. In addition, the Council recommends that a formal procedure be established for assessing and controlling ecosystem effects of reef-related fisheries managed under the Fishery Management Plan for the Bottomfish and Seamount Groundfish Fisheries of the Western Pacific Region, the Fishery Management Plan for the Crustacean Fisheries of the Western Pacific Region, and the Fishery Management Plan for the Precious Corals Fisheries of the Western Pacific Region.

CREPT/EHAP Meeting

The agenda for the joint CREPT/EHAP meeting on March 8, 2001, will include the items listed below:

1. Introduction

2. CREFMP/DEIS

A. Review of public comments

(1) MPAs

(2) Permits and Reporting

(3) Fishing Gear and Methods

(4) Framework Actions

(5) Non-regulatory Actions

(6) Research, Monitoring and Assessment

(7) Enforcement

(8) Other

3. Relation of Executive Orders (E.O.s 13178 and 13196) on the Northwestern Hawaiian Islands (NWHI) Coral Reef Ecosystem Reserve to CREFMP

4. Discussion Recommendation

A. CREPT

B. EHAP

Full Council Meeting

The agenda for the Council meeting on March 13, 2001, will include the items listed below:

1. Introduction

2. Approval of 107th Meeting Minutes

3. CREFMP/DEIS

A. Review of public comments

(1) MPAs

(2) Permits and Reporting

(3) Fishing Gear and Methods

(4) Framework Actions

(5) Non-regulatory Actions

(6) Research, Monitoring and Assessment

(7) Enforcement

(8) Other

4. Relation of E.O.s 13178 and 13196 on NWHI Coral Reef Ecosystem Reserve to CREFMP

5. Review of CREPT and EHAP comments and recommendations

6. Review of comments from other advisory body members

7. Council discussion and action

8. Crustacean Fisheries

A. Preferred alternative for Crustaceans DEIS

B. Consideration of long-term closure of Northwestern Hawaiian Islands (NWHI) lobster fishery

C. Council discussion and action

9. Community Demonstration Project Program (CDPP)

A. Approval of draft Federal Register notice for CDPP

B. Appointment of new CDPP Advisory Panel member from American Samoa

10. Other Business

Although non-emergency issues not contained in this agenda may come before the Council for discussion, those issues may not be the subject of formal Council action during this meeting. Council action will be restricted to those issues specifically listed in this document and any issue arising after publication of this document that requires emergency action under section 305(c) of the Magnuson-Stevens Fishery Conservation and Management Act, provided the public has been notified of the Council’s intent to take final action to address the emergency.

Special Accommodations

These meetings are physically accessible to people with disabilities. Requests for sign language interpretation or other auxiliary aids should be directed to Kitty M. Simonds, 808-522-8220 (voice) or 808-522-8226 (fax), at least 5 days prior to the meeting date.

Authority: 16 U.S.C. 1801 et seq.

Dated: February 26, 2001.
Dean Swanson,
Acting Director, Office of Sustainable Fisheries, National Marine Fisheries Service.

[FR Doc. 01-5000 Filed 2-27-01; 2:35 pm]

BILLING CODE 3510-22-S